DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and comment. The nature of the information collection is described as well as its expected burden. The Federal Register Notice with a 60-day comment period soliciting comments on the following collection of information was published on March 6, 2002. No comments were received.

DATES: Comments must be submitted on or before July 31, 2002.

FOR FURTHER INFORMATION CONTACT: Evie Chitwood, Maritime Administration, 400 Seventh Street, SW., Washington, DC 20590; telephone: 202-366-5127; FAX: 202-366-6988, or e-mail: evie.chitwood@marad.dot.gov. Copies of this collection can also be obtained from that office.

SUPPLEMENTARY INFORMATION: Maritime Administration (MARAD).

Title: Intermodal Access to Shallow Draft Ports and Terminals Survey.

OMB Control Number: 2133-NEW.

Type of Request: Approval of a new request.

Affected Public: Officials at the Nation's key shallow draft marine ports and terminals.

Form(s): MA-1024B.

Abstract: The Maritime Administration (MARAD) has primary responsibility for ensuring the availability of efficient water transportation service to shippers and consumers. This information collection is designed to be a survey of critical infrastructure issues that impact the Nation's shallow draft marine ports and terminals. The survey will provide MARAD with key road, rail, and waterside access data as well as security information and highlight the issues that affect the flow of cargo through U.S. shallow draft marine ports and terminals.

Annual Estimated Burden Hours: 22.5 hours.

ADDRESSES: Send comments to the Office of Information and Regulatory Affairs, Office of Management and Budget, 725 17th Street, NW., Washington, DC 20503, Attention MARAD Desk Officer.

Comments Are Invited on: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology.

A comment to OMB is best assured of having its full effect if OMB receives it within 30 days of publication.

Issued in Washington, DC, on June 25, 2002.
Joel C. Richard,
Secretary, Maritime Administration.

[FR Doc. 02-16470 Filed 6-28-02; 8:45 am]

BILLING CODE 4910-81-P